FEDERAL COMMUNICATIONS COMMISSION

Notice of Public Information Collection(s) Being Reviewed by the Federal Communications Commission, Comments Requested

September 14, 2004.

SUMMARY: The Federal Communications Commission, as part of its continuing effort to reduce paperwork burden invites the general public and other Federal agencies to take this opportunity to comment on the following information collection(s), as required by the Paperwork Reduction Act (PRA) of 1995, Public Law No. 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before November 22, 2004. If you anticipate that you will be submitting comments, but find it difficult to do so within the period of time allowed by this notice, you should advise the contact listed below as soon as possible.

ADDRESSES: Direct all Paperwork Reduction Act (PRA) comments to Les Smith, Federal Communications Commission, Room 1-A804, 445 12th Street, SW., Washington, DC 20554 or via the Internet to Leslie.Smith@fcc.gov.

FOR FURTHER INFORMATION CONTACT: For additional information or copies of the information collection(s), contact Les Smith at (202) 418-0217 or via the Internet at Leslie.Smith@fcc.gov.

SUPPLEMENTARY INFORMATION: OMB Control Number: 3060-0057.

Title: Application for Equipment Authorization, 47 CFR Sections 2.911, 2.913, 2.925, 2.926, 2.929, 2.932, 2.944, 2.960, 2.1033(a), and 2.1043.

Form Number: FCC 731.

Type of Review: Revision of currently approved collection.

Respondents: Business or other for profit entities.

Estimated Number of Respondents: 5,619.

Estimated Time per Response: 18 to 30 hours (average 24 hours).

Frequency of Response: Recordkeeping; On occasion reporting requirements.

Total Annual Burden: 134,856 hours.

Total Annual Costs: $1,124,000.

Privacy Act Impact Assessment: N.A.

Needs and Uses: On July 8, 2004, the Commission adopted a Report and Order, Modification of Parts 2 and 15 of the Commission's Rules for Unlicensed Devices and Equipment Approval, ET Docket No. 03-201, FCC 04-165. The change requires that all paper filings required in 47 CFR Sections 2.913(c), 2.926(c), 2.929(c), and 2.929(d) of the rules are outdated and now must be filed electronically via the Internet on FCC Form 731. The Commission believes that electronic filing speeds up application processing and supports the Commission in further streamlining to reduce cost and increase efficiency. Information on the procedures for electronically filing equipment authorization applications can be obtained from the Commission's rules, and from the Internet at: https://gullfoss2.fcc.gov/prod/oet/cf/eas/index.cfm.

Designated Telecommunications Certification Body (TCB). The number of responses and the response time is not expected to change, since the basic authorization process will not change. Respondents are only being required to file the same information electronically.

OMB Control Number: 3060-0934.

Title: Application for Equipment Authorization, 47 CFR Sections 2.913, 2.925, 2.926, 2.929, 2.932, 2.944, 2.960, 2.962, 2.1043, 68.160 and 68.162.

Form Number: FCC 731-TC.

Type of Review: Revision of currently approved collection.

Respondents: Business or other for profit entities.

Estimated Number of Respondents: 25.

Estimated Time per Response: 4 hours.

Frequency of Response: On occasion reporting requirements; Third party disclosure.

Total Annual Burden: 6,400 hours.

Total Annual Costs: $175,000.

Privacy Act Impact Assessment: N.A.

Needs and Uses: Under 47 CFR parts 2 and 15 of FCC Rules, certain equipment must comply with FCC technical standards before it can be marketed. Equipment that operates in the licensed service requires FCC Authorization under 47 CFR parts 2 and 68. Since its 1999 Report and Order, ET Docket No. 98-68, the FCC has permitted private sector firms or “Telecommunications Certification Body” (TCB) to approve equipment for marketing. TCBs are accredited by FCC recognized accrediting bodies, and then designated by the FCC to act on behalf of the Commission. TCBs may be designated based on the terms of established Mutual Recognition Agreements with foreign trade partners. TCBs may accept FCC Form 731-TC filings and evaluate the equipment's compliance with FCC Rules and technical standards. TCBs submit this information to the FCC via the Internet. On July 8, 2004, the Commission adopted a Report and Order, Modification of Parts 2 and 15 of the Commission's Rules for Unlicensed Devices and Equipment Approval, ET Docket No. 03-201, FCC 04-165. The change requires that all paper filings required in Sections 2.913(c), 2.926(c), 2.929(c), and 2.929(d) of the rules are outdated and now must be filed electronically via the Internet on FCC Form 731-TC. The Commission believes that electronic filing speeds up application processing and supports the Commission in further streamlining to reduce cost and increase efficiency. The number of responses and the response time is not expected to change, since the basic authorization process will not change. Respondents are only being required to file the same information electronically.

Federal Communications Commission.
Marlene H. Dortch,
Secretary.

[FR Doc. 04-21296 Filed 9-21-04; 8:45 am]

BILLING CODE 6712-10-P